DEPARTMENT OF THE INTERIOR

Fish and Wildlife Service

[FWS-HQ-MB-2016-N218; 91400-5110-0000]; [91400-9410-0000]

Multistate Conservation Grant Program; Fiscal Year 2016 Priority List and Approval for Award of the Conservation Projects

AGENCY: Fish and Wildlife Service, Interior.

ACTION: Notice of receipt of priority list and approval of projects.

SUMMARY: We, the U.S. Fish and Wildlife Service (Service), announce the Fiscal Year (FY) 2016 priority list of wildlife and sport fish conservation projects from the Association of Fish and Wildlife Agencies (AFWA). As required by the Wildlife and Sport Fish Restoration Programs Improvement Act of 2000, AFWA submits a list of projects to us each year to consider for funding under the Multistate Conservation Grant Program. We reviewed the list and have awarded all the grants from the list.

ADDRESSES: John C. Stremple, Multistate Conservation Grants Program Coordinator; Wildlife and Sport Fish Restoration Program; U.S. Fish and Wildlife Service; 5275 Leesburg Pike; MS: WSFR; Falls Church, VA 22041-3808.

FOR FURTHER INFORMATION CONTACT: John C. Stremple, (703) 358-2156 (phone) or John_Stremple@fws.gov (email).

SUPPLEMENTARY INFORMATION: The Fish and Wildlife Programs Improvement and National Wildlife Refuge System Centennial Act of 2000 (Improvement Act, Pub. L. 106-408) amended the Pittman-Robertson Wildlife Restoration Act (16 U.S.C. 669 et seq.) and the Dingell-Johnson Sport Fish Restoration Act (16 U.S.C. 777 et seq.) and established the Multistate Conservation Grant Program. The Improvement Act authorizes us to award grants of up to $3 million annually from funds available under each of the restoration acts, for a total of up to $6 million annually. Projects can be funded from both funds depending on the project activities. We may award grants to projects from a list of priority projects recommended to us by the Association of Fish and Wildlife Agencies. The Service Director, exercising the authority of the Secretary of the Interior, need not fund all projects on the list, but all projects funded must be on the list.

The Improvement Act provides that funding for Multistate grants is available in the year it is appropriated and for the following year. Total funding for the FY 2016 Multistate Conservation grants is in excess of $6 million due to funding that has been carried over from FY 2015, as well as the availability of funding that had previously been sequestered.

Grantees under this program may use funds for sport fisheries and wildlife management and research projects, boating access development, hunter safety and education, aquatic education, fish and wildlife habitat improvements, and other purposes consistent with the enabling legislation.

To be eligible for funding, a project must benefit fish and/or wildlife conservation for at least 26 States, for a majority of the States in any one Service Region, or for one of the regional associations of State fish and wildlife agencies. We may award grants to a State, a group of States, or one or more nongovernmental organizations. For the purpose of carrying out the National Survey of Fishing, Hunting, and Wildlife-Associated Recreation, we may award grants to the Service, if requested by AFWA, or to a State or a group of States. Also, AFWA requires all project proposals to address its National Conservation Needs, which AFWA announces annually at the same time it requests proposals. Further, applicants must provide certification that no activities conducted under a Multistate Conservation Grant will promote or encourage opposition to regulated hunting or trapping of wildlife, or to regulated angling or taking of fish.

AFWA committees and interested nongovernmental organizations that represent conservation organizations, sportsmen's and women's organizations, and industries that support or promote fishing, hunting, trapping, recreational shooting, bowhunting, or archery review and rank eligible project proposals. AFWA's Committee on National Grants recommends a final list of priority projects to the directors of the State fish and wildlife agencies for their approval by majority vote. By statute, AFWA then transmits the final approved list to the Service for funding under the Multistate Conservation Grant program by October 1 of the fiscal year. This year, AFWA sent us a list of 18 projects that they recommended for funding. We awarded all of the recommended projects for FY 2016. The list follows:

Multistate Conservation Grant Program
[FY 2016 projects]
ID | Title | Submitter | PR funding ¹ | DJ funding ² | Total 2015 grant
1 | State Fish & Wildlife Agency Technical Workgroup for the 2016 National Survey | AFWA | $3,360 | $3,360 | $6,720
2 | State Fish and Wildlife Agency Administration and Coordination | AFWA | 77,386.63 | 77,386.63 | 154,773.26
3 | Development of a National Outreach Strategy | AFWA | 74,925 | 74,925 | 149,850
4 | Increasing Effectiveness of State Wildlife Agencies Through Leadership & Professional Development | AFWA | 15,000 | 15,000 | 30,000
5 | Management Assistance Team (MAT) and the National Conservation Leadership Institute | AFWA | 118,568 | 118,568 | 237,136
6 | State Fish & Wildlife Agency Director Travel Administration and Coordination | AFWA | 48,056.25 | 48,056.25 | 96,112.50
7 | Expansion & Implementation of the North American Conservation Education Strategy's Outdoor Recreation Model | AFWA | 12,485 | 12,485 | 24,970
8 | Preserve State Agencies' Authority to Manage Wildlife Resources and Promote Their Interest in the Implementation of International Treaties | AFWA | 9,000 | 9,000 | 18,000
9 | Diversifying Outdoor Education: Translate Explore Bowhunting into Spanish to Reveal an Untapped Market | ATA | 52,500 | 0 | 52,500
10 | AFWA's Legal Strategy: Educating Law Students, Lawyers, Judges, and the Public on State Legal Authority to Manage Fish and Wildlife Resources | AFWA | 75,000 | 75,000 | 150,000
11 | Coordination of the Industry, Federal, and State Agency Coalition | AFWA | 86,640 | 86,640 | 173,280
12 | Recruitment of Hispanic Hunters: Using a Case Studies approach to gain insights into Hispanic values toward wildlife and motivations and participation in hunting | Max McGraw Wildlife Foundation | 19,675 | 0 | 19,675
13 | Crucial Habitat Assessment Tool (CHAT) | WAFWA | 20,000 | 20,000 | 40,000
14 | 2016—Raising Awareness of the WSFR Program and improving industry relations to ensure the long-term stability of the program | WMI | 60,000 | 60,000 | 120,000
15 | Advancing the Objectives of the National Fish Habitat Action Plan through Regional and Collaborative Science and Priority Setting | AFWA/NFHB | 0 | 86,000 | 86,000
16 | Coordination of the 2016 National Survey Efforts (part A) | FWS | 128,483 | 128,483 | 256,966
17 | 50 State Surveys Related to Fishing, Hunting, and Wildlife-Associated Recreation (part B) | Rockville Institute (Westat) | 1,780,370 | 1,780,370 | 3,560,740
18 | National-Level Results for the 2016 Survey of Fishing, Hunting and Wildlife-Associated Recreation (part A) | FWS/U.S. Census Bureau | 1,272,167 | 1,272,167 | 2,544,334
|  |  | 3,853,615.88 | 3,867,440.88 | 7,721,056.76
¹ PR Funding: Pitman-Robertson Wildlife Restoration funds.
² DJ Funding: Dingell-Johnson Sport Fish Restoration funds.
AFWA: Association of Fish and Wildlife Agencies.
ATA: Archery Trade Association.
NFHB: National Fish Habitat Board.
WAFWA: Western Association of Fish and Wildlife Agencies.
WMI: Wildlife Management Institute.

Dated: December 7, 2015.
Stephen Guertin,
Director, U.S. Fish and Wildlife Service.

[FR Doc. 2016-02799 Filed 2-10-16; 8:45 am]

BILLING CODE 4333-15-P